DEPARTMENT OF JUSTICE

Notice of Lodging of Proposed Consent Decree Under the Clean Water Act

On April 28, 2021, the Department of Justice lodged a proposed consent decree with the United States District Court for the Northern District of New York in the lawsuit entitled United States and State of New York v. Holcim (US) Inc., Civil Action No. 1:21-cv-490 (GTS-DJS). The United States and the State of New York filed this action for injunctive relief and civil penalties brought pursuant to Section 309(b) and (d) of the Clean Water Act (“CWA” or the “Act”), 33 U.S.C. 1319(b) and (d), and Article 17 of the New York Environmental Conservation Law (“ECL”), and regulations promulgated thereto, against Holcim (US) Inc. (“Holcim” or “Defendant”), as owner and as successor-in-interest at Defendant's Ravena Cement Plant (“Facility” or “Ravena Facility”) located at 1916 Route 9W in Ravena, New York for illegal discharges of pollutants and other violations of Section 301(a) of the CWA, 33 U.S.C. 1311(a), and for failing to comply with NYSDEC State Pollutant Discharge Elimination System Permit No. NY0005037 (the “Permit”), issued pursuant to CWA § 402, 33 U.S.C. 1342. The complaint alleges that, between April 2015 and April 2021, Holcim violated the Clean Water Act through unauthorized discharges of pollutants to tributaries of the Hudson River, and that Holcim's predecessor-in-interest violated three prior administrative consent orders issued from 2011 to 2015. This action seeks to recover monetary penalties for these violations as well as injunctive relief compelling Holcim to come into compliance with the CWA, the ECL, and their respective implementing regulations.

The settlement, set forth in a consent decree lodged with the court, requires Holcim to comply with the terms of the Permit, pay an $850,000 civil penalty ($212,000 of which will be directed to a NYS Environmental Benefit Project improving stormwater management at Coeymans Landing Park in the Town of Coeymans, New York), and make other physical and operational improvements to the Facility.

The publication of this notice opens a period for public comment on the proposed consent decree. Comments should be addressed to the Assistant Attorney General, Environment and Natural Resources Division, and should refer to United States and State of New York v. Holcim (US) Inc., D.J. Ref. No. 90-5-2-1-08221/8. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $17.00 (25 cents per page reproduction cost) payable to the United States Treasury.

Henry Friedman,
Assistant Section Chief, Environmental Enforcement Section, Environment and Natural Resources Division.

[FR Doc. 2021-09729 Filed 5-6-21; 8:45 am]

BILLING CODE 4410-15-P